DEPARTMENT OF THE INTERIOR

Bureau of Indian Affairs

Indian Gaming

Correction

In notice document 03-8560 appearing on page 17072 in the issue of Tuesday, April 8, 2003, make the following correction:

On page 17072, in the second column, in the second line, “Tulapid”, should read “Tulalip”.

[FR Doc. C3-8560 Filed 4-14-03; 8:45 am]

BILLING CODE 1505-01-D

DEPARTMENT OF JUSTICE

[EOIR No. 135]

Executive Office for Immigration Review; Notice of Class Action Judgment in Barahona-Gomez v. Ashcroft

Correction

In notice document 03-6691 beginning on page 13727 in the issue of Thursday March 20, 2003, make the following corrections:

1. On page 13727, in the second column, the subject heading is corrected to read as set forth above.

2. On page 13728, in the appendix, in the second column, in paragraph (c)(2), in the seventh and eighth lines, “October 1, 1995” should read “ October 1, 1996”.

[FR Doc. C3-6691 Filed 4-14-03; 8:45 am]

BILLING CODE 1505-01-D